DEPARTMENT OF HEALTH AND HUMAN SERVICES

Health Resources and Services Administration

Advisory Council on Blood Stem Cell Transplantation

AGENCY: Health Resources and Services Administration (HRSA), the Department of Health and Human Services (HHS).

ACTION: Notice of charter renewal.

SUMMARY: HHS is hereby giving notice that the Advisory Council on Blood Stem Cell Transplantation (ACBSCT) has been renewed. The effective date of the renewed charter is February 19, 2019.

FOR FURTHER INFORMATION CONTACT: Robert Walsh, Executive Secretary, ACBSCT, HRSA, 5600 Fishers Lane, Rockville, Maryland 20857. Phone: 301-443-6839; email: rwalsh@hrsa.gov.

SUPPLEMENTARY INFORMATION: Relevant statutes are Public Law 109-129 as amended by Public Law 111-264; 42 U.S.C. 274k; and Section 379 of the Public Health Service Act. The Council is governed by the provisions of Public Law 92-463, as amended (5 U.S.C. appendix 2), which sets forth standards for the formation and use of advisory committees.

ACBSCT advises and makes recommendations to the Secretary of Health and Human Services (Secretary) on matters related to the activities of the C.W. Bill Young Cell Transplantation Program and the National Cord Blood Inventory Program. One of its principal functions shall be to provide consolidated, comprehensive sources of expert, unbiased analysis and recommendations to the Secretary on the latest advances in the science of blood stem cell transplantation.

ACBSCT may meet up to three times during the fiscal year. The charter renewal for ACBSCT was approved on February 7, 2019. The filing date is February 19, 2019. Renewal of the ACBSCT charter authorizes the Council to operate until February 19, 2021.

A copy of the ACBSCT charter is available on the ACBSCT website at: https://bloodcell.transplant.hrsa.gov/about/advisory_council/index.html. A copy of the charter can also be obtained by accessing the FACA database that is maintained by the Committee Management Secretariat under the General Services Administration. The website address for the FACA database is http://www.facadatabase.gov/.

Amy P. McNulty,
Acting Director, Division of the Executive Secretariat.

[FR Doc. 2019-02399 Filed 2-14-19; 8:45 am]

BILLING CODE 4165-15-P